DEPARTMENT OF THE INTERIOR

Bureau of Land Management

[BLM_NV_FRN_MO4500182174]

Notice of Public Meeting of the Mojave-Southern Great Basin Resource Advisory Council

AGENCY: Bureau of Land Management, Interior.

ACTION: Notice of public meetings.

SUMMARY: In accordance with the Federal Land Policy and Management Act and the Federal Advisory Committee Act, the U.S. Department of the Interior, Bureau of Land Management's (BLM) Mojave-Southern Great Basin Resource Advisory Council (RAC) will meet as follows.

DATES: The Mojave-Southern Great Basin RAC will meet on November 12, 2024, from 8 a.m. to 4:30 p.m. Pacific time (PT); participate in a field tour on February 5, 2025, from 8 a.m. to 3 p.m. PT; and meet on February 6, 2025, from 8 a.m. to 4:30 p.m. PT. The meetings and field tour are open to the public.

ADDRESSES: The meetings and field tour will commence and conclude at the BLM Southern Nevada District Office at 4701 North Torrey Pines, Las Vegas, Nevada 89130. A virtual participation option will be available on the Zoom platform for the November and February meeting. Registration and participation guidelines details for the meetings and field tour will be available 30 days in advance at https://www.blm.gov/get-involved/resource-advisory-council/near-you/nevada/mojave-southern-great-basin-rac.

FOR FURTHER INFORMATION CONTACT: Kirsten Cannon, Public Affairs Specialist, email: klcannon@blm.gov, or telephone: 702-515-5057. Individuals in the United States who are deaf, deafblind, hard of hearing, or have a speech disability may dial 711 (TTY, TDD, or TeleBraille) to access telecommunications relay services. Individuals outside the United States should use the relay services offered within their country to make international calls to the point-of-contact in the United States. Please make requests in advance for sign language interpreter services, assistive listening devices, language translation services, or other reasonable accommodations. We ask that you contact the individual listed above in this section at least 14 business days prior to the meeting to the give the Department of the Interior sufficient time to process the request. All reasonable accommodations requests are managed on a case by case basis.

SUPPLEMENTARY INFORMATION: The 15-member RAC advises the Secretary of the Interior, through the BLM, on a variety of public land issues located within the Battle Mountain, Ely, and Southern Nevada District Offices. Each meeting will include district updates and a time reserved for open discussion, followed by a public comment period. Depending on the number of people who wish to speak, the time for individual comments may be limited.

The public may submit written comments to the RAC in advance of the meeting via email to the contact listed in the FOR FURTHER INFORMATION CONTACT section of this notice at least five business days prior to the meeting. Any written comments received will be provided to RAC members before the meeting. Please include “RAC Comment” in your submission. Before including your address, phone number, email address, or other personal identifying information in your comment, please be aware that your entire comment—including your personally identifying information—may be made publicly available at any time. While individuals may request their personally identifying information to be withheld from public view, we cannot guarantee that we will be able to do so.

Agenda topics for the November 2024 meeting may include a presentation by the Southern Paiute on Tribal issues, and presentations on Public Lands Rule implementation and renewable energy projects. The February 2025 field tour will be to renewable energy project sites within the area managed by the Las Vegas Field Office. Members of the public are welcome to participate in the field tour but must provide their own transportation and meals. Agenda topics for the February 2025 meeting may include presentations on mining projects, partnerships, and vegetation and water drainage at renewable energy project sites.

Detailed minutes for RAC meetings are maintained in the BLM Southern Nevada District Office. Minutes will also be posted to the BLM Nevada RAC web page.

(Authority: 43 CFR 1784.4-2)

Theresa Coleman,
Southern Nevada District Manager.

[FR Doc. 2024-23067 Filed 10-4-24; 8:45 am]

BILLING CODE 4331-21-P